DEPARTMENT OF EDUCATION

Reopening; Applications for New Awards; Training and Information for Parents of Children With Disabilities—Parent Training and Information Centers

AGENCY: Office of Special Education and Rehabilitative Services, Department of Education.

ACTION: Notice.

Catalog of Federal Domestic Assistance (CFDA) Number: 84.328M

SUMMARY: This notice reopens the FY 2014 Parent Training and Information Centers competition, authorized by the Individuals with Disabilities Education Act (IDEA), as amended. We published a notice inviting applications (NIA) for this competition on April 9, 2014, in the Federal Register. The notice provided a deadline date of May 27, 2014, as well as other information, for the transmittal of applications.

SUPPLEMENTARY INFORMATION: Significant technical problems with the Grants.gov Apply site's ability to accept security enabled Adobe Acrobat files in the Parent Training and Information Centers competition that was announced in the NIA published on April 9, 2014, in the Federal Register (79 FR 19595-19604) may have prevented some eligible applicants from meeting the May 27, 2014 deadline. Therefore, we are reopening the competition to provide applicants with additional time to submit an application.

Any applicant that has already submitted an application under the FY 2014 Parent Training and Information Centers competition does not need to resubmit its application, including those applicants whose submissions were accepted but not processed because of the problems with Grants.gov.

DATES:

Deadline for Transmittal of Applications: June 30, 2014.

Note to Applicants: The notice published on April 9, 2014, provides other information that applies to this competition. Specifically, the priority in that notice, entitled “Parent Training and Information Centers,” identifies the requirements for applications submitted in response to this notice, including the eligible entities, the States from which we are accepting applications, and the instructions for submitting applications.

Deadline for Intergovernmental Review: August 29, 2014.

FOR FURTHER INFORMATION CONTACT: Carmen Sanchez, U.S. Department of Education, 400 Maryland Avenue SW., Room 4057, Potomac Center Plaza (PCP), Washington, DC 20202-2600. Telephone: (202) 245-6595.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 23, 2014.
Michael K. Yudin,
Acting Assistant Secretary for Special Education and Rehabilitative Services.

[FR Doc. 2014-15071 Filed 6-26-14; 8:45 am]

BILLING CODE 4000-01-P